DEPARTMENT OF COMMERCE

International Trade Administration

The Manufacturing Council: Meeting of The Manufacturing Council

AGENCY: International Trade Administration, U.S. Department of Commerce.

ACTION: Notice of an Open Meeting via Teleconference.

SUMMARY: The Manufacturing Council will hold a meeting via teleconference to deliberate for approval a proposed letter of recommendation regarding manufacturing priorities for the incoming Secretary.

DATES: December 12, 2008.

Time: 12 p.m. (EST).

For The Conference Call-In Number and Further Information, Contact: The Manufacturing Council Executive Secretariat, Room 4043, Washington, DC, 20230 (Phone: 202-482-1369), or visit the Council's Web site at http://www.manufacturing.gov/council.

Dated: December 1, 2008.
Kate W. Sigler,
Deputy Director, Office of Advisory Committees.

[FR Doc. E8-28723 Filed 12-1-08; 4:15 pm]

BILLING CODE 3510-DR-P